DEPARTMENT OF COMMERCE

[I.D. 061504A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Alaska Region Gear Identification Requirements.

Form Number(s): None.

OMB Approval Number: 0648-0353.

Type of Request: Regular submission.

Burden Hours: 3,138.

Number of Respondents: 1,692.

Average Hours Per Response: 15 minutes.

Needs and Uses: The participants in the groundfish fisheries in the Exclusive Economic Zone off the coast of Alaska are required to identify all hook-and-line and pot gear marker buoys on board or in use by the vessel. The vessels will be identified with the vessel's Federal fisheries permit number or the State of Alaska Department of Fish and Game vessel registration number. The information is needed for fishery enforcement purposes.

Affected Public: Business or other for-profit organizations, and Individuals or households.

Frequency: Third party disclosure.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number 202-395-7285, or David_Rostker@omb.eop.gov.

Dated: June 10, 2004.
Gwellnar Banks,
Management Analyst, Office of the Chief Information Officer.

[FR Doc. 04-13805 Filed 6-17-04; 8:45 am]

BILLING CODE 3510-22-S